DEPARTMENT OF COMMERCE

National Oceanic and Atmospheric Administration

[Docket No. 030602141-4026-06; 061703A]

RIN 0648-ZB55

Availability of Grant Funds for Fiscal Year 2004; Republication

Editorial Note: Due to numerous errors, this document is being reprinted in its entirety. It was originally printed in the Federal Register on Thursday, February 12, 2004, at 69 FR 6942-6946.

AGENCY: National Oceanic and Atmospheric Administration (NOAA), Department of Commerce (DOC).

ACTION: Omnibus Notice Announcing the Availability of Grant Funds for Fiscal Year 2004.

SUMMARY: The National Oceanic and Atmospheric Administration (NOAA) announces a third availability of grant funds for Fiscal Year 2004. This notice provides the general public program and application information related to the Agency's competitive grant offerings, and it contains the information about those programs required to be published in the Federal Register. It should be noted that additional program initiatives unanticipated at the time of the publication of this notice may be announced through both subsequent Federal Register notices and the NOAA Web site: http://www.ofa.noaa.gov/~amd/SOLINDEX.HTML.

DATES: Proposals must be received by the date and time indicated under each program listing in the SUPPLEMENTARY INFORMATION section.

ADDRESSES: Proposals must be submitted to the addresses listed in the SUPPLEMENTARY INFORMATION section for each program.

FOR FURTHER INFORMATION CONTACT: For a copy of the full funding opportunity announcement and/or application kit, please contact the person listed as the information contact under each program or access it via NOAA's Web site: http://www.ofa.noaa.gov/~amd/SOLINDEX.HTML.

SUPPLEMENTARY INFORMATION: NOAA published its first omnibus notice announcing the availability of grant funds for both projects and fellowships/scholarships/internships for Fiscal Year 2004 in the Federal Register on June 30, 2003 (68 FR 38678). The evaluation criteria and selection procedures contained in the June 30, 2003, omnibus notice are applicable to this solicitation. For a copy of the June 30, 2003, omnibus notice, please go to: http://www.ofa.noaa.gov/~amd/SOLINDEX.HTML.

Electronic Access

The full funding announcement for each program is available via Web site http://www.ofa.noaa.gov/~amd/SOLINDEX.HTML or by contacting the program official identified below. These announcements will also be available through FedGrants at http://www.fedgrants.gov.

NOAA Project Competitions

This third omnibus notice describes funding opportunities for the following NOAA discretionary grant programs:

National Marine Fisheries Service

1. Right Whale Research Grants Program (RWRGP)

Summary Description: The North Atlantic right whale is among the world's most endangered cetaceans. The population is believed to number only about 300 individuals and appears to be declining. The lack of recovery is due in part to high mortality from human sources, notably fishing gear entanglements and vessel collisions. A Recovery Plan is in effect, and conservation of this species is a high priority for NOAA Fisheries. Research directed at facilitating such conservation or to provide monitoring of the population's status and health, is also a high priority for the agency. The RWRGP is conducted by NOAA to provide Federal assistance to eligible researchers for: (1) Detection and tracking of right whales; (2) behavior of right whales in relation to ships; (3) relationships between vessel speed, size or design with whale collisions; (4) modeling of ship traffic along the Atlantic coast; (5) population monitoring and assessment studies; (6) reproduction, health and genetic studies; (7) development of a Geographic Information System database or other system designed to investigate predictive modeling of right whale distribution in relation to environmental variables; (8) habitat quality studies including food quality and pollutant levels; and (9) any other work relevant to the recovery of North Atlantic right whales.

Funding Availability: This solicitation announces that a maximum of $2.0M may be available for distribution under the FY 2004 RWRGP, in award amounts to be determined by the proposals and available funds. Applicants are hereby given notice that funds have not yet been appropriated for this program. There is no guarantee that sufficient funds will be available to make awards for all qualified projects. The exact amount of funds that may be awarded will be determined in pre-award negotiations between the applicant and NOAA representatives. Publication of this notice does not oblige NOAA to award any specific project or to obligate any available funds. There is no set minimum or maximum amount for any award, and there is no limit on the number of applications that can be submitted by the same researcher during the 2004 competitive grant cycle. However, there are insufficient funds to award financial assistance to every applicant. If an application for a financial assistance award is selected for funding, NOAA/NMFS has no obligation to provide any additional funding in connection with that award in subsequent years.

Statutory Authority: 16 U.S.C. 1380.

CFDA: 11.472, Unallied Science Programs.

Application Deadline: Proposals must be postmarked by 5 p.m. eastern time on April 12, 2004.

Address for Submitting Proposals: NOAA Fisheries Right Whale Grants Program, Protected Species Branch, Northeast Fisheries Science Center, 166 Water Street, Woods Hole, MA 02543, 508-495-2316.

Information Contact(s): Dr. Phillip J. Clapham, Northeast Fisheries Science Center, 166 Water Street, Woods Hole, MA 02543, 508 495-2316, e-mail rightwhalegrants@noaa.gov.

Eligibility: Eligible applicants are individuals, institutions of higher education, other nonprofits, commercial organizations, international organizations, foreign governments, organizations under the jurisdiction of foreign governments, and State, local and Indian tribal governments. Federal agencies, or employees of Federal agencies are not eligible to apply.

Cost Sharing Requirements: No cost sharing is required under this program.

Applications under this program are subject to Executive Order 12372, “Intergovernmental Review of Federal Programs.”

National Ocean Service

1. Bay Watershed Education & Training (B-WET) Program, Hawaiian Islands

Summary Description: The B-WET grant program is a competitively based program that supports existing environmental education programs, fosters the growth of new programs, and encourages the development of partnerships among environmental education programs throughout the Hawaiian Islands. Funded projects provide “meaningful” outdoor experiences for students and professional development opportunities for teachers in the area of environmental education.

Funding Availability: This solicitation announces that approximately $400,000 may be available for FY 2004 in award amounts to be determined by the proposals and available funds. It is anticipated that approximately 10 grants will be awarded with these funds. About $200,000 will be for proposals that provide opportunities for students to participate in a “meaningful” outdoor experience. About $200,000 will be for proposals that provide opportunities for professional development in the area of environmental education for teachers. Proposals may be submitted for up to 3 years. However, funds will be made available for only a 12-month award period. The Pacific Services Center may review the grants funded under this announcement pending submission of successful proposals subject to technical and panel review, adequate progress on previous award(s) and/or site visits, and available funding.

Statutory Authority: 33 U.S.C. 883d, 15 U.S.C. 1540.

CFDA: 11.473, Coastal Services Center.

Application Deadline: Proposals must be received by 5 p.m. Pacific time on March 29, 2004.

Address for Submitting Proposals: Monterey Bay National Marine Sanctuary Office; 299 Foam Street, Monterey, CA 93940. Facsimile transmissions and electronic mail submission of proposals will not be accepted.

Information Contact: Seaberry Nachbar, phone 831-647-4201, fax 831-647-4250, Internet at seaberry.nachbar@noaa.gov.

Eligibility: Eligible applicants for both areas of interest (“meaningful outdoor experience” and professional development in the area of environmental education for teachers) are K-through-12 public and independent schools and school systems, institutions of higher education, commercial and nonprofit organizations, State or local government agencies, and Indian tribal governments. Applicants that are not eligible are individuals and Federal agencies.

Cost Sharing Requirements: No cost sharing is required under this program; however, the Pacific Services Center strongly encourages applicants to share as much of the costs of the award as possible. Funds from other Federal awards may not be considered matching funds. The nature of the contribution (cash versus in-kind) and the amount of matching funds will be taken into consideration in the review process with cash being the preferred method of contribution.

Intergovernmental Review: Applications under this program are not subject to Executive Order 12372, “Intergovernmental Review of Federal Programs.”

2. Bay Watershed Education & Training (B-WET) Program, Monterey Bay Watershed

Summary Description: The B-WET grant program is a competitively based program that supports existing environmental education programs, fosters the growth of new programs, and encourages the development of partnerships among environmental education programs throughout the Monterey Bay watershed. Funded projects provide “meaningful” outdoor experiences for students and professional development opportunities for teachers in the area of environmental education.

Funding Availability: This solicitation announces that approximately $475,000 may be available in FY 2004 in award amounts to be determined by the proposals and available funds. It is anticipated that approximately 15 grants will be awarded with these funds. About $250,000 will be for proposals that provide opportunities for students to participate in a “meaningful” outdoor experience. About $225,000 will be for proposals that provide opportunities for professional development in the area of environmental education for teachers. Proposals may be submitted for up to 3 years. However, funds will be made available for only a 12-month award period and any renewal of the award period will depend on submission of a successful proposal subject to technical and panel review, adequate progress on previous award(s), and available funding to renew the award. The NMSP may renew the grants funded under this announcement pending submission of successful proposals subject to technical and panel reviews, adequate progress on previous award(s) and/or site visits, and available funding.

Statutory Authority: 15 U.S.C. 1440.

CFDA: 11.429, Marine Sanctuary Program.

Application Deadline: Proposals must be received by 5 p.m. Pacific time on March 29, 2004.

Address for Submitting Proposals: Monterey Bay National Marine Sanctuary Office; 299 Foam Street, Monterey, CA 93940. Facsimile transmissions and electronic mail submission of proposals will not be accepted.

Information Contact: Seaberry Nachbar, phone 831-647-4201, fax 831-647-4250, Internet at seaberry.nachbar@noaa.gov.

Eligibility: Eligible applicants for both areas of interest (“meaningful outdoor experiences” and professional development in the area of environmental education for teachers) are K-through-12 public and independent schools and school systems, institutions of higher education, commercial and nonprofit organizations, State or local government agencies, and Indian tribal governments. Applicants that are not eligible are individuals and Federal agencies.

Cost Sharing Requirements: No cost sharing is required under this program; however, the National Marine Sanctuary Program strongly encourages applicants to share as much of the costs of the award as possible. Funds from other Federal awards may not be considered matching funds. The nature of the contribution (cash versus in-kind) and the amount of matching funds will be taken into consideration in the review process with cash being the preferred method of contribution.

Intergovernmental Review: Applications under this program are not subject to Executive Order 12372, “Intergovernmental Review of Federal Programs.”

3. FY2004 Coastal Services Center Technical Assistance for Coastal Managers Program

Summary Description: The Technical Assistance for Coastal Managers program represents an NOAA/CSC effort to improve the use of monitoring data and geospatial information and technology in coastal management through collaborative work with members of the coastal management community that have expertise in community planning and resource management. These activities will engage coastal managers from multiple organizations and levels of government and improve the management of coastal resources by applying geospatial knowledge, practices, and principles to new approaches for managing coastal resources. The Technical Assistance for Coastal Managers program contributes to other efforts at the NOAA/CSC and is designed to complement those efforts. Five program priorities will be targeted as a result of this announcement. They are:

(1) Increasing coordination and planning between local land trusts, State agencies, and regional planning agencies within New England.

(2) Development of a nationally consistent inventory system for geospatial data at the state level.

(3) Increasing education and research opportunities in the application of CIS and remote-sensing technologies to coastal resource management, with emphasis on recruiting under-represented minorities.

(4) Incorporation of seagrass into the monitoring of the health of special management areas.

(5) Pilot projects supporting the Data Management and Communications component of the Integrated Ocean Observing System.

NOAA/CSC will give sole attention to individual proposals that address one or more of the program priorities described above. Proposals must clearly specify which program priority is being addressed. A proposal must contain tasks that address each element listed for the priority chosen. All awards will be in the form of a cooperative agreement, which allows the NOAA/CSC to have substantial involvement in the projects in addition to providing funds. Applicants must propose a role for the NOAA/CSC that constitutes the substantial involvement listed for that priority.

The names, affiliations, and phone numbers of relevant NOAA/CSC personnel are provided below. Prospective applicants should communicate with these focal points to ensure the role specified for the NOAA/CSC is practicable. Focal points cannot assist in the conceptual design of the project nor can they help with the design of specific elements included in a proposal.

Funding Availability for FY2004: This funding opportunity announces that approximately $1,750,000 will be available through this announcement for fiscal year 2004 for cooperative agreements. Proposals should be prepared assuming a total budget of no more than $500,000 for priorities (1) and (4), and $125,000 for priorities (2), (3), and (5). It is expected that one award will be made for priority areas (1) through (4) and up to three awards for priority (5), depending on availability of funds.

Statutory Authority: 16 U.S.C. 1456c and 33 U.S.C 1442.

CFDA: 11.473, Coastal Services Center.

Application Deadline: Applicants applying for Federal assistance under the Technical Assistance for Coastal Managers Program, must submit their applications by 5 p.m. local time March 15, 2004.

Address for Submitting Proposals: Coastal Services Center, 2234 South Hobson Avenue, Charleston, South Carolina 29405-2413 to the attention of Violet Legette, room 218.

Information Contact(s): For administrative questions on all five program priorities, contact Violet Legette, NOAA CSC, 2234 South Hobson Avenue, Room 218, Charleston, South Carolina 29405-2413, or by phone at 843-740-1222, or by fax 843-740-1232, or via Internet at Violet.Legette@noaa.gov. For technical questions on program priorities (1), (2), and (3), contact Hamilton Smillie, NOAA CSC, 2234 South Hobson Avenue, Room 153, Charleston, South Carolina 29405-2413, or by phone at 843-740-1192, or by fax 843-740-1315, or via Internet at Hamilton.Smillie@noaa.gov. For technical questions on program priority (4), contact Pace Wilber, NOAA CSC, 2234 South Hobson Avenue, Room 234B, Charleston, South Carolina 29405-2413, or by phone at 843-740-1235, or by fax 843-740-1315, or via Internet at Pace.Wilber@noaa.gov. For technical questions on program priority (5), contact Anne Ball, NOAA CSC, 2234 South Hobson Avenue, Room 211, Charleston, South Carolina 29405-2413, or by phone at 843-740-1229, or by fax 843-740-1315, or via Internet at Anne.Ball@noaa.gov.

Eligibility: Eligible applicants are institutions of higher education, hospitals, other non-profits, commercial organizations, foreign governments, organizations under the jurisdiction of foreign governments, international organizations, and State, local and Indian tribal governments. Federal agencies or institutions are not eligible to receive Federal assistance under this announcement.

Cost Sharing Requirements: None.

Intergovernmental Review: Applications under this program are subject to Executive Order 12372, “Intergovernmental Review of Federal Programs.”

Office of Oceanic and Atmospheric Research

1. NOAA Educational Partnership Program With Minority Serving Institutions: Environmental Entrepreneurship Program

Summary Description: The goal of the National Oceanic and Atmospheric Administration Educational Partnership Program with Minority Serving Institutions (EPP/MSI) is to strengthen the capacity of Minority Serving Institutions to foster student careers, entrepreneurship opportunities and advanced academic degrees in sciences directly related to NOAA's mission. The Environmental Entrepreneurship Program is designed to support education and training programs to engage students in applying the necessary skills, tools, methods and technologies in sciences directly related to NOAA's mission. This includes fostering educational opportunities in coastal, oceanic, atmospheric, environmental sciences, and remote sensing technology, coupled with training in economics, marketing, product development, and services to create jobs, businesses, and economic development opportunities. The Environmental Entrepreneurship Program promotes partnerships with MSIs, NOAA and the public-private sector.

Funding Availability: Subject to appropriations, approximately $3 million will be available for the Environmental Entrepreneurship Program competition in 2004. Proposals are limited to a total of $500,000 for a maximum of three years and approximately six proposals will be funded.

Statutory Authority: 15 U.S.C. 1540.

CFDA: 11.481 Educational Partnership Program with Minority Serving Institutions.

Application Deadline: Proposals must be received by 5 p.m. eastern time on March 15, 2004.

Address for Submitting Applications: NOAA EPP/MSI: Environmental Entrepreneurship Program, National Oceanic and Atmospheric Administration, Room 10725, SSMC3, 1315 East-West Highway, Silver Spring, MD 20910. Facsimile transmissions and electronic mail submission of proposals will not be accepted.

Information Contact: Jewel G. Linzey, Program Manager, Environmental Entrepreneurship Program, (301) 713-9437, ext. 118, facsimile (301) 713-9465, e-mail Jewel.Griffin-Linzey@noaa.gov.

Eligibility: Minority Serving Institutions eligible to submit proposals include institutions of higher education identified by the Department of Education as:

(i) Historically black colleges and universities,

(ii) Hispanic-serving institutions,

(iii) Tribal colleges and universities,

(iv) Alaska Native or Native Hawaiian serving institutions

on the most recent “2003 United States Department of Education Accredited Post-Secondary Minority Institutions” list: http://www.ed.gov/about/offices/list/ocr/edlite-minorityinst.html.

Cost Sharing Requirements: There is no cost-sharing requirement.

Intergovernmental Review: Applications under this program are not subject to Executive Order 12372, “Intergovernmental Review of Federal Programs.”

Limitation of Liability

In no event will NOAA or the Department of Commerce be responsible for proposal preparation costs if these programs fail to receive funding or are cancelled because of other agency priorities. Publication of this announcement does not oblige NOAA to award any specific project or to obligate any available funds.

National Environmental Policy Act (NEPA)

NOAA must analyze the potential environmental impacts, as required by the National Environmental Policy Act (NEPA), for applicant projects or proposals which are seeking NOAA Federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems).

In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of an application.

The Department of Commerce Pre-Award Notification Requirements for Grants and Cooperative Agreements

The Department of Commerce Pre-Award Notification Requirements for Grants and Cooperative Agreements contained in the Federal Register notice of October 1, 2001 (66 FR 49917), as amended by the Federal Register notice published on October 30, 2002 (67 FR 66109), are applicable to this solicitation.

Paperwork Reduction Act

This document contains collection-of-information requirements subject to the Paperwork Reduction Act (PRA). The use of Standard Forms 424, 424A, 424B, SF-LLL, and CD-346 has been approved by Office of Management and Budget (OMB) under the respective control numbers (0348-0043, 0348-0044, 0348-0040, 0348-0046, and 0605-0001). Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: February 5, 2004.
John J. Kelly, Jr.,
Deputy Under Secretary of Commerce for Oceans and Atmosphere, National Oceanic and Atmospheric Administration.

[FR Doc. 04-3083 Filed 2-11-04; 8:45 am]

Editorial Note: Due to numerous errors, this document is being reprinted in its entirety. It was originally printed in the Federal Register on Thursday, February 12, 2004, at 69 FR 6942-6949.

[FR Doc. R4-3083 Filed 2-27-04; 8:45 am]

BILLING CODE 1505-01-D